DEPARTMENT OF LABOR

Employment and Training Administration

[TA-W-60,219]

Marathon Electric, a Subsidiary of Regal-Beloit Corporation; Lima, OH; Notice of Termination of Investigation

Pursuant to section 221 of the Trade Act of 1974, as amended, an investigation was initiated on October 6, 2006 in response to a worker petition filed by an IUE-CWA Region 7 official on behalf of workers of Marathon Electric, a subsidiary of Regal-Beloit Corporation, Lima, Ohio.

The petitioner has requested that the petition be withdrawn. Consequently, the investigation has been terminated.

Signed at Washington, DC, this 20th day of October 2006.
Linda G. Poole,
Certifying Officer, Division of Trade Adjustment Assistance.

[FR Doc. E6-18215 Filed 10-30-06; 8:45 am]

BILLING CODE 4510-30-P